DEPARTMENT OF THE INTERIOR

Bureau of Land Management

[WO-310-1310-PB-24 1A]

OMB Approval Number 1004-0145; Information Collection Submitted to the Office of Management and Budget Under the Paperwork Reduction Act

The Bureau of Land Management (BLM) has submitted an extension of a currently approved collection, to collect information listed below, to the Office of Management and Budget (OMB) under the provisions of the Paperwork Reduction Act (44 U.S.C. 3501 et seq.). On August 24, 2001, the BLM published a notice in the Federal Register (66 FR 44641) requesting comment on this information collection. The comment period ended on October 23, 2001. The BLM received no comments. You may obtain copies of the collection of information and related forms and explanatory material by contacting the BLM Information Collection Clearance Officer at the telephone number listed below.

The OMB must respond to this request within 60 days but may respond after 30 days. For maximum consideration your comments and suggestions on the requirement should be made within 30 days directly to the Office of Management and Budget, Interior Department Desk Officer (1004-0145), Office of Information and Regulatory Affairs, Washington, DC 20503. Please provide a copy of your comments to the Bureau Information Collection Clearance Officer (WO-630), Bureau of Land Management, Eastern States Office, 7450 Boston Blvd., Springfield, Virginia 22153.

Nature of Comments

We specifically request your comments on the following:

(1) Whether the collection of information is necessary for the proper functioning of the BLM, including whether the information will have practical utility;

(2) The accuracy of BLM's estimates of the burden of collecting the information, including the validity of the methodology and assumptions we use;

(3) The quality, utility, and clarity of the information we collect; and

(4) How to minimize the burden of collecting the information on those who are to respond, including the use of appropriate automated electronic, mechanical, or other forms of information technology.

Title: Oil and Gas Exploration and Leasing (43 CFR parts 3100, 3120, and 3150).

OMB Approval Number: 1004-0145.

Abstract: We use the information to determine whether an applicant is qualified to conduct oil and gas exploration and leasing activities and to hold a lease to obtain a benefit under the terms of the Mineral Leasing Act of 1920. Respondents supply the information that we will use to determine if an applicant is eligible to hold, explore for, and produce oil and gas on Federal lands.

Form Number: 3100-11.

Frequency: On occasion.

Description of Respondents: Individuals, small businesses, and oil and gas exploration and drilling companies.

Estimated Completion Time: 1 hour.

Annual Responses: 1,770.

Application Fee per Response: 0.

Annual Burden Hours: 2,235.

Bureau Clearance Officer: Michael H. Schwartz (202) 452-5033.

Dated: August 21, 2002.
Michael H. Schwartz,
Bureau of Land Management, Information Collection Clearance Officer.

[FR Doc. 02-23671 Filed 9-17-02; 8:45 am]

BILLING CODE 4310-84-M